FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 7, 2014.

A. Federal Reserve Bank of Kansas City (Dennis Denney, Assistant Vice President) 1 Memorial Drive, Kansas City, Missouri 64198-0001:

1. Peter Page, Lamar, Colorado, in his capacity as independent trustee of three trusts: The Barth E. Whitham Trust No. 2, the Frank E. Whitham Trust #1, Barth E. Whitham Share, the Frank E. Whitham Trust #2, Barth E. Whitham Share, all of Morrison, Colorado; and Doug McKinney, Leoti, Kansas, in his capacity as independent trustee of the Stewart A. Whitham Trust #2, Leoti, Kansas; to become members of the Whitham Control Group and thereby retain control of Whitcorp Financial Company, Leoti, Kansas, and thereby indirectly acquire Western State Bank, Garden City, Kansas, and Frontier Bank, Lamar, Colorado.

B. Federal Reserve Bank of Dallas (E. Ann Worthy, Vice President) 2200 North Pearl Street, Dallas, Texas 75201-2272:

1. Sharon Bragg Clark, De Leon, Texas, to acquire voting shares of F&M Bancshares, Inc., and thereby indirectly acquire Farmers and Merchants Bank, both of De Leon, Texas.

Board of Governors of the Federal Reserve System, March 18, 2014.
Michael J. Lewandowski,
Associate Secretary of the Board.

[FR Doc. 2014-06207 Filed 3-20-14; 8:45 am]

BILLING CODE 6210-01-P